DEPARTMENT OF HEALTH AND HUMAN SERVICES

Centers for Disease Control and Prevention

National Program To Promote Diabetes Education Strategies in Minority Communities: The National Diabetes Education Program

Correction

In notice document 04-22259 beginning on page 59231 in the issue of Monday, October 4, 2004, make the following correction:

On page 59237, in the first column, in the second and third lines, “(770) 448-5035” should read, “(770) 488-5035”.

[FR Doc. C4-22259 Filed 10-13-04; 8:45 am]

BILLING CODE 1505-01-D

POSTAL SERVICE

39 CFR Part 501

Authorization to Manufacture and Distribute Postage Meters

Correction

In rule document 04-22234 beginning on page 60090 in the issue of Thursday, October 7, 2004, make the following correction:

§ 501.1 [Corrected]

On page 60090, in 501.1(a), in the sixth line, “Postage”” should read “Postage®”.

[FR Doc. C4-22234 Filed 10-13-04; 8:45 am]

BILLING CODE 1505-01-D